ENVIRONMENTAL PROTECTION AGENCY

[EPA-HQ-OAR-2018-0227; FRL-9977-60-OAR]

RIN 2060-AT31

Notice of EPA Workshop on EPA Fuels Regulatory Streamlining

AGENCY: Environmental Protection Agency (EPA).

ACTION: Notice of workshop.

SUMMARY: The Environmental Protection Agency (EPA) is announcing a stakeholder workshop to be held in Chicago, Illinois on May 21, 2018, through May 23, 2018, on its anticipated rulemaking on Fuels Regulatory Streamlining. The EPA intends to publish a proposal at a later date in the Federal Register.

DATES: The workshop will be held on May 21, 2018, through May 23, 2018, at the location noted below under ADDRESSES. On May 21, 2018, the workshop will begin at 12:30 p.m. Central Daylight Time (CDT) and end at 5:00 p.m. CDT. On May 22, 2018, the workshop will begin at 8:00 a.m. CDT and end at 4:00 p.m. CDT. On May 23, 2018, the workshop will begin at 8:30 a.m. CDT and end at 5:00 p.m. CDT. Parties wishing to attend the workshop should notify the contact person listed under FOR FURTHER INFORMATION CONTACT by May 14, 2018. Additional information regarding the workshop appears below under SUPPLEMENTARY INFORMATION.

ADDRESSES: The workshop will be held at the following location: Palmer House Hilton Hotel, 17 East Monroe Street, Chicago, IL 60603; telephone number: (312) 726-7500. Additional information related to the workshop will be posted on the EPA website at: https://www.epa.gov/air-pollution-transportation/key-issues-websites-and-programs-epas-office-transportation-and-air. Interested parties should check the website for any updated information.

FOR FURTHER INFORMATION CONTACT: Nick Parsons, Office of Transportation and Air Quality, Assessment and Standards Division, Environmental Protection Agency, 2000 Traverwood Drive, Ann Arbor, MI 48105; telephone number: (734) 214-4479; email address: ASD-Registration@epa.gov.

SUPPLEMENTARY INFORMATION: EPA is exploring opportunities to streamline and modernize its existing fuels regulations under 40 CFR part 80 to update EPA's existing gasoline, diesel, and other fuels regulations to help reduce burden for stakeholders as well as EPA, while improving overall compliance assurance and maintaining environmental performance. EPA intends to achieve this goal in streamlining the existing fuels regulations by: Deleting expired provisions, eliminating redundant compliance provisions (e.g., duplicative registration requirements that are required by every EPA fuels program), and replacing them with a single set of provisions and definitions that would apply across all gasoline, diesel, and other fuels programs currently under 40 CFR part 80.

The workshop will provide the opportunity for EPA to update stakeholders on its progress regarding this streamlining of the existing fuels regulations, and for stakeholders to provide initial feedback as EPA develops its proposed rule.

Dated: April 25, 2018.
Christopher Grundler,
Director, Office of Transportation and Air Quality, Office of Air and Radiation.

[FR Doc. 2018-09783 Filed 5-7-18; 8:45 am]

BILLING CODE 6560-50-P